NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 5, 2009. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Agricultural Research Service (N1-310-08-3, 5 items, 3 temporary items). Scanned versions of records accumulated by the Office of the Administrator relating to substantive agency functions and activities, records documenting routine administrative matters, and tracking and management reports generated from an electronic information system used to track records sent to the Office of the Administrator. Proposed for permanent retention are paper copies of substantive records accumulated by the Office of the Administrator and master files of an electronic information system used to track these records.

2. Department of the Army, Agency-wide (N1-AU-09-9, 1 item, 1 temporary item). Master files associated with an electronic information system used to track audits and audit follow-up, including administrative matters associated with audits.

3. Department of the Army, Agency-wide (N1-AU-09-23, 1 item, 1 temporary item). Master files associated with an electronic information system used for after action reviews of battle training exercises.

4. Department of the Army, Agency-wide (N1-AU-09-24, 1 item, 1 temporary item). Master files associated with an electronic information system used by installation training centers for battle simulation exercises.

5. Department of the Army, Agency-wide (N1-AU-09-25, 1 item, 1 temporary item). Master files associated with an electronic information system used to study and analyze battle training exercises.

6. Department of Commerce, National Telecommunications and Information Administration (N1-417-08-1, 6 items, 6 temporary items). Electronic and paper records relating to the digital television converter box coupon program.

7. Department of Defense, Defense Commissary Agency (N1-506-09-1, 1 item, 1 temporary item). Master files of an electronic information system that contains information concerning agency employees, such as pay grade, job series, race, and years of service.

8. Department of Defense, Defense Security Service (N1-446-09-2, 1 item, 1 temporary item). Registers, forms, and other records used to document receipt, disclosure, and disposal of Top Secret documents that contain compartmented information.

9. Department of Health and Human Services, Food and Drug Administration (N1-88-09-3, 14 items, 14 temporary items). Master files for electronic information systems used for regulatory and administrative workflow management, records relating to regulated imports, files on regulated firms and facilities, and laboratory analytical documentation and reports.

10. Department of Homeland Security, National Protection and Programs Directorate (N1-563-08-35, 3 items, 3 temporary items). Master files and outputs of an electronic information system used to identify individuals who have remained in the United States beyond their authorized stay.

11. Department of the Interior, Office of the Secretary (N1-48-08-5, 2 items, 1 temporary item). Travel records of high level agency officials other than the Secretary of the Interior, including invitations, travel vouchers, itineraries, and briefing books. Travel records accumulated by the Secretary of the Interior are proposed for permanent retention.

12. Department of the Interior, National Business Center (N1-48-08-4, 11 items, 11 temporary items). Electronic records relating to such payroll matters as benefits, debt management, leave and earnings, and the creation of W-2 forms.

13. Department of the Interior, National Business Center (N1-48-08-7, 1 item, 1 temporary item). Electronic records containing data relating to safety and health matters collected from the interagency wildland fire community.

14. Department of the Interior, National Business Center (N1-48-08-19, 1 item, 1 temporary item). Electronic records relating to management of the National Fire Plan, which relates to such matters as hazardous fuel reduction, burned area rehabilitation, and community assistance activities. These records are duplicative of records maintained by the Department's Office of Wildland Fire Coordination.

15. Department of the Interior, Bureau of Land Management (N1-49-08-2, 7 items, 6 temporary items). Records relating to the development and management, including quality assurance, of databases relating to safety and environmental matters. Also included are master files containing data relating to inspections of agency facilities and equipment and corrective actions needed. Proposed for permanent retention are master files of an electronic information system used in connection with the management and cleanup of abandoned mines and other hazardous waste sites.

16. Department of Justice, Bureau of Prisons (N1-129-09-15, 1 item, 1 temporary item). Records included in an electronic information system used to document inmates' medical histories and medical care.

17. Department of Justice, Bureau of Prisons (N1-129-09-16, 1 item, 1 temporary item). Master files of an electronic information system used to track inmates who are released early, contingent on successful completion of a drug abuse treatment program.

18. Department of the Navy, Naval Criminal Investigative Service (N1-NU-09-4, 2 items, 2 temporary items). Records relating to registering or granting permits for boats, weapons, hunting and fishing, and similar matters. Also included are copies of polygraph examination records accumulated during criminal investigations.

19. Department of State, Bureau of Population, Refugees, and Migration (N1-59-09-7, 2 items, 2 temporary items). Master files and outputs of an electronic information system used in connection with such activities as the development of the Bureau's budget requests, monitoring disbursements, and reporting to the Department, Congress, and the Office of Management and Budget.

20. Department of Transportation, Federal Highway Administration (N1-406-09-5, 4 items, 2 temporary items). Data concerning motor vehicle registrations and the issuance of drivers' licenses that is on the agency's Web site as well as data that is published in the agency's annual highway statistics report. Master files of the electronic information system that contains this data are proposed for permanent retention along with outputs that are not published in the annual highway statistics report. The annual published report has been approved for permanent retention in a separate schedule.

21. Department of the Treasury, Departmental Offices (N1-56-09-2, 3 items, 3 temporary items). Master files, inputs, and outputs of an electronic information system used to manage the Federal Financing Bank's loan portfolio.

22. Department of the Treasury, Internal Revenue Service (N1-58-09-8, 2 items, 2 temporary items). Applications for tax credits for developing and implementing clean coal technologies.

23. Environmental Protection Agency, Agency-wide (N1-412-09-5, 3 items, 2 temporary items). Records relating to environmental achievement awards, consisting of records of routine awards, as well as non-substantive documentation relating to significant awards, such as records relating to arrangements for and summaries of awards ceremonies. Major documentation of significant awards, including Presidential awards, is proposed for permanent retention.

24. Federal Communications Commission, Office of Media Relations (N1-173-09-1, 5 items, 5 temporary items). Records relating to the agency's public Web site, including Web content and management and operations records.

25. Federal Maritime Commission, Office of the Inspector General (N1-358-09-1, 1 item, 1 temporary item). Master files of an electronic information system that is used for tracking audits and evaluations.

26. Office of the Director of National Intelligence, National Counterterrorism Center (N1-576-09-1, 1 item, 1 temporary item). Master files of an electronic information system that contains data relating to individuals engaged in or suspected of involvement in terrorist activities.

27. Railroad Retirement Board, Office of Programs (N1-184-09-1, 1 item, 1 temporary item). Records maintained in the agency's claims imaging system, consisting of applications for benefits under the Railroad Retirement Act and Railroad Unemployment Insurance Act and related records. This schedule only covers records maintained in this system, which was implemented in October 2001. Older applications for retirement benefits that pre-date this system have been appraised as permanent and will be scheduled separately.

Dated: April 30, 2009.
Michael J. Kurtz,
Assistant Archivist for Records Services—Washington, DC.

[FR Doc. E9-10490 Filed 5-5-09; 8:45 am]

BILLING CODE 7515-01-P